DEPARTMENT OF JUSTICE

Parole Commission

Sunshine Act; Public Announcement

Pursuant to the Government in the Sunshine Act (Pub. L. 94-409) [5 U.S.C. 552b].

AGENCY HOLDING MEETING: Department of Justice, United States Parole Commission.

TIME AND DATE: 10:30 a.m., Wednesday, September 7, 2005.

PLACE: 5550 Friendship Blvd., Fourth Floor, Chevy Chase, MD 20815.

STATUS: Open.

MATTER TO BE CONSIDERED: The meeting is being held to discuss the budget proposal for the fiscal year 2007.

AGENCY CONTACT: Thomas W. Hutchison, Chief of Staff, United States Parole Commission, (301) 492-5990.

Dated: August 31, 2005.
Rockne Chickinell,
General Counsel, U.S. Parole Commission.

[FR Doc. 05-17671 Filed 9-1-05; 10:42 am]

BILLING CODE 4410-31-M